DEPARTMENT OF VETERANS AFFAIRS

[OMB Control No. 2900-0099]

Agency Information Collection Activity Under OMB Review: Dependent's Request for Change of Program or Place of Training

AGENCY: Veterans Benefits Administration, Department of Veterans Affairs.

ACTION: Notice.

SUMMARY: In compliance with the Paperwork Reduction Act (PRA) of 1995, this notice announces that the Veterans Benefits Administration (VBA), Department of Veterans Affairs, will submit the collection of information abstracted below to the Office of Management and Budget (OMB) for review and comment. The PRA submission describes the nature of the information collection and its expected cost and burden, and it includes the actual data collection instrument.

DATES: Written comments and recommendations for the proposed information collection revision should be sent within 30 days of publication of this notice to www.reginfo.gov/public/do/PRAMain. Find this particular information collection by selecting “Currently under 30-day Review—Open for Public Comments” or by using the search function. Refer to “OMB Control No. 2900-0099.

FOR FURTHER INFORMATION CONTACT: Maribel Aponte, Office of Enterprise and Integration, Data Governance Analytics (008), 810 Vermont Ave. NW, Washington, DC 20006, (202) 266-4688 or email maribel.aponte@va.gov. Please refer to “OMB Control No. 2900-0099” in any correspondence.

SUPPLEMENTARY INFORMATION:

Authority: 38 U.S.C. 3034(a), 3034(b), 3323(a), 3323(b), 3471, 3513, 3521, and 3691.

Title: Dependent's Request for Change of Program or Place of Training.

OMB Control Number: 2900-0099.

Type of Review: Revision of a currently approved collection.

Abstract: VA uses the information collection to determine (1) if the claimant continues to qualify for education benefits when taking a different program of training and (2) to verify that a new place of training is approved for benefits. The information on the form can be obtained only from the individual claimant. VA cannot make an eligibility determination without this information. There is a decrease in the number of burden hours due to a decrease in the average number of forms received for periods 2019, 2020 and 2021.

An agency may not conduct or sponsor, and a person is not required to respond to a collection of information unless it displays a currently valid OMB control number. The Federal Register Notice with a 60-day comment period soliciting comments on this collection of information was published at 87 FR 74698 on December 6, 2022, page 74698.

Affected Public: Individuals and households.

Estimated Annual Burden: 11,358 hours.

Estimated Average Burden Time per Respondent: 15 minutes.

Frequency of Response: On occasion.

Estimated Number of Respondents: 45,434.

By direction of the Secretary.
Maribel Aponte,
VA PRA Clearance Officer, Office of Enterprise and Integration, Data Governance Analytics, Department of Veterans Affairs.

[FR Doc. 2023-02846 Filed 2-9-23; 8:45 am]

BILLING CODE 8320-01-P